DEPARTMENT OF HEALTH AND HUMAN SERVICES

Centers for Disease Control and Prevention

[CDC-2018-0055, Docket Number NIOSH-156-D]

IDLH Value Profile for Bromine Trifluoride, Chlorine Trifluoride, and Ethylene Dibromide

AGENCY: National Institute for Occupational Safety and Health (NIOSH) of the Centers for Disease Control and Prevention (CDC), Department of Health and Human Services (HHS).

ACTION: Notice of availability.

SUMMARY: NIOSH announces the availability of IDLH Value Profiles for Bromine Trifluoride, Chlorine Trifluoride, and Ethylene Dibromide.

DATES: The final documents were published on July 21, 2020 on the CDC website.

ADDRESSES: The documents may be obtained at the following links: Bromine Trifluoride: https://www.cdc.gov/niosh/docs/2020-123/default.html; Chlorine Trifluoride: https://www.cdc.gov/niosh/docs/2020-124/default.html; Ethylene Dibromide: https://www.cdc.gov/niosh/docs/2020-125/default.html.

FOR FURTHER INFORMATION CONTACT: R. Todd Niemeier (mail to: RNiemeier1@cdc.gov), National Institute for Occupational Safety and Health, Centers for Disease Control and Prevention, 1090 Tusculum Ave, MS C-15, Cincinnati, OH 45226. Phone (513) 533-8166 (not a toll-free number).

SUPPLEMENTARY INFORMATION: On June 8, 2018, NIOSH published a request for public review in the Federal Register [Federal Register Number 2018-12364] [83 FR 26685] on the draft versions of the documents IDLH Value Profile for Bromine Trifluoride, IDLH Value Profile for Chlorine Trifluoride, IDLH Value Profile for Ethylene Dibromide.

All comments received were carefully reviewed and addressed, where appropriate. In response to comments received, revisions were made to clarify the data used by NIOSH in its support of the development of the IDLH values for these chemicals. NIOSH Responses to Peer Review and Public Comments can be found in the Supporting Documents section on www.regulations.gov for this docket.

John J. Howard,
Director, National Institute for Occupational Safety and Health, Centers for Disease Control and Prevention.

[FR Doc. 2020-16254 Filed 7-27-20; 8:45 am]

BILLING CODE 4163-18-P